DEPARTMENT OF TRANSPORTATION

Federal Motor Carrier Safety Administration

Availability of Supporting Materials

AGENCY: Federal Motor Carrier Safety Administration (FMCSA), DOT.

ACTION: Availability of supporting materials.

SUMMARY: This notice advises the public of the availability on the Department of Transportation (Department) Web site of revised guidance and an accompanying advisory policy memorandum concerning the value of a statistical life used by Departmental analysts when assessing the benefits of preventing fatalities. Consistent with the revised guidance and Departmental policy, the adjusted value of a statistical life will be assessed in conducting economic analyses and identifying the benefits of FMCSA regulatory initiatives in all open rulemaking dockets.

SUPPLEMENTARY INFORMATION: On February 5, 2008, the Department issued revised guidance concerning “Treatment of the Value of Preventing Fatalities and Injuries in Preparing Economic Analyses.” Based on an improved understanding of relevant academic research literature, the revised guidance provides that the best present estimate of the economic value of preventing a human fatality is $5.8 million. In an advisory memorandum issued concurrently with the revised guidance to Secretarial Officers and Modal Administrators, Assistant Secretary for Transportation Policy Tyler Duval and General Counsel D.J. Gribbin instructed that the newly adjusted $5.8 million human life value should be used, effective immediately, for analyses performed by the Department. In addition, the memorandum announced that the Department will, for the first time, require supplementary analyses at values for a statistical life higher and lower than the $5.8 million adjusted value—specifically, assumptions of $3.2 million and $8.4 million for the value associated with each life saved.

Consistent with the revised Departmental guidance, FMCSA has reassessed the regulatory analyses in open rulemaking dockets to take account of the adjusted human life value. The revised guidance raising the economic value of preventing a human fatality and the accompanying policy memorandum may be found on the DOT Web site at: http://ostpxweb.ost.dot.gov/policy/reports/080205.htm.

Issued on: June 12, 2008.
John H. Hill,
Administrator.

[FR Doc. E8-14008 Filed 6-19-08; 8:45 am]

BILLING CODE 4910-EX-P